DEPARTMENT OF THE INTERIOR

Bureau of Land Management

[AA-12244, AA-12245, AA-12246, AA-12248, AA-12256, AA-12257, AA-12258, AA-12259, AA-12271, AA-12272, AA-12273, AA-12274; 18X.LLAK944000.L14100000.HY0000.P]

Alaska Native Claims Selection

AGENCY: Bureau of Land Management, Interior.

ACTION: Notice of decision approving lands for conveyance.

SUMMARY: The Bureau of Land Management (BLM) hereby provides constructive notice that it will issue an appealable decision approving conveyance of the surface estate in certain lands to The Aleut Corporation, an Alaska Native regional corporation, pursuant to the Alaska Native Claims Settlement Act of 1971, as amended (ANCSA). Ownership of the subsurface estate will be retained by the United States.

DATES: Any party claiming a property interest in the lands affected by the decision may appeal the decision in accordance with the requirements of 43 CFR part 4 within the time limits set out in the SUPPLEMENTARY INFORMATION section.

ADDRESSES: You may obtain a copy of the decision from the BLM, Alaska State Office, 222 West Seventh Avenue, #13, Anchorage, AK 99513-7504.

FOR FURTHER INFORMATION CONTACT: Christy Favorite, BLM Alaska State Office, 907-271-5995 or cfavorit@blm.gov. The BLM Alaska State Office may also be contacted via a Telecommunications Device for the Deaf (TDD) through the Federal Relay Service (FRS) at 1-800-877-8339. The FRS is available 24 hours a day, 7 days a week, to leave a message or question with the BLM. The BLM will reply during normal business hours.

SUPPLEMENTARY INFORMATION: As required by 43 CFR 2650.7(d), notice is hereby given that the BLM will issue an appealable decision to The Aleut Corporation. The decision approves conveyance of the surface estate in certain lands pursuant to ANCSA (43 U.S.C. 1601, et seq.), as amended. Ownership of the subsurface estate will be retained by the United States.

The lands are located within Izembek National Wildlife Refuge and the Aleutian Islands Unit of the Alaska Maritime National Wildlife Refuge, and aggregate 283.81 acres. The BLM will also publish notice of the decision once a week for four consecutive weeks in the Bristol Bay Times/Dutch Harbor Fisherman newspaper.

Any party claiming a property interest in the lands affected by the decision may appeal the decision in accordance with the requirements of 43 CFR part 4 within the following time limits:

1. Unknown parties, parties unable to be located after reasonable efforts have been expended to locate, parties who fail or refuse to sign their return receipt, and parties who receive a copy of the decision by regular mail which is not certified, return receipt requested, shall have until October 10, 2018 to file an appeal.

2. Parties receiving service of the decision by certified mail shall have 30 days from the date of receipt to file an appeal.

Parties who do not file an appeal in accordance with the requirements of 43 CFR part 4 shall be deemed to have waived their rights. Notices of appeal transmitted by facsimile will not be accepted as timely filed.

Christy Favorite,
Chief, Adjudication Section.

[FR Doc. 2018-19465 Filed 9-7-18; 8:45 am]

BILLING CODE 4310-JA-P